DEPARTMENT OF COMMERCE

International Trade Administration

[A-201-822]

Stainless Steel Sheet and Strip in Coils From Mexico: Notice of Settlement of NAFTA Proceedings

AGENCY: Import Administration, International Trade Administration, Department of Commerce.

SUMMARY: The Department of Commerce (the Department) is announcing the settlement of proceedings before five separate North American Free Trade Agreement (NAFTA) binational dispute settlement panels.

DATES: Effective Date: March 5, 2013.

FOR FURTHER INFORMATION CONTACT: Mykhaylo Gryzlov, Office of the Chief Counsel for Import Administration, U.S. Department of Commerce, 14th Street and Constitution Avenue NW., Washington, DC 20230; telephone: (202) 482-0833.

SUPPLEMENTARY INFORMATION:

Background

On July 27, 1999, the Department published the antidumping duty order on stainless steel sheet and strip in coils from Mexico (SSSS from Mexico). See Stainless Steel Sheet and Strip in Coils from Mexico, 64 FR 40560 (July 27, 1999) (notice of amended LTFV determination and antidumping duty order) (Order). Since the Order was issued, ThyssenKrupp Mexinox S.A. de C.V. and Mexinox USA, Inc. (together, Mexinox) have challenged various aspects of five administrative reviews ¹ of the Order before NAFTA panels.² On August 10, 2011, the Department revoked the Order, effective July 25, 2010, as a result of a sunset review. See Stainless Steel Sheet and Strip in Coils from Germany, Italy and Mexico, 76 FR 49450 (August 10, 2011) (revocation of the antidumping duty orders). As a result of this revocation, the Department instructed Customs and Border Protection (CBP) to terminate the suspension of liquidation and collection of cash deposits of the subject merchandise entered or withdrawn from warehouse on or after July 25, 2010.

¹ Stainless Steel Sheet and Strip in Coils from Mexico, 71 FR 76978 (December 22, 2006) (admin. review); Stainless Steel Sheet and Strip in Coils from Mexico, 73 FR 7710 (February 11, 2008) (admin. review), as amended by 73 FR 14215 (March 17, 2008); Stainless Steel Sheet and Strip in Coils from Mexico, 74 FR 6365 (February 9, 2009); Stainless Steel Sheet and Strip in Coils from Mexico, 75 FR 6627 (February 10, 2010) (admin. review), as amended by 75 FR 17122 (April 05, 2010); Stainless Steel Sheet and Strip in Coils from Mexico, 76 FR 2332 (January 13, 2011) (admin. review), as amended by 76 FR 76 FR 9542 (February 18, 2011).

² Allegheny Ludlum Corporation, North American Stainless, and AK Steel Corporation (collectively, the domestic industry or petitioners) challenged certain aspects of the final results of Stainless Steel Sheet and Strip in Coils from Mexico, 71 FR 76978 (December 22, 2006) (admin. review). On April 14, 2010, the NAFTA panel affirmed the final results with respect to all aspects challenged by petitioners.

On September 20, 2012, the Department and Mexinox entered into a Settlement Agreement that fully resolves all pending NAFTA disputes brought by Mexinox. Pursuant to this settlement of litigation, the Department and Mexinox agreed to a termination of the following cases (collectively, the five NAFTA disputes):

1. In the Matter of Stainless Steel Sheet and Strip in Coils from Mexico: Final Results of the 2004-2005 Antidumping Duty Administrative Review, Secretariat File No. USA-MEX-2007-1904-01;

2. In the Matter of Stainless Steel Sheet and Strip in Coils from Mexico: Final Results of the 2005-2006 Antidumping Duty Administrative Review, Secretariat File No. USA-MEX-2008-1904-01;

3. In the Matter of Stainless Steel Sheet and Strip in Coils from Mexico: Final Results of the 2006-2007 Antidumping Duty Administrative Review, Secretariat File No. USA-MEX-2009-1904-02;

4. In the Matter of Stainless Steel Sheet and Strip in Coils from Mexico: Final Results of the 2007-2008 Antidumping Duty Administrative Review, Secretariat File No. USA-MEX-2010-1904-01;

5. In the Matter of Stainless Steel Sheet and Strip in Coils from Mexico: Final Results of the 2008-2009 Antidumping Duty Administrative Review, Secretariat File No. USA-MEX-2011-1904-01.

Pursuant to the Settlement Agreement, the five NAFTA disputes have been dismissed. Pursuant to the Settlement Agreement, following the publication of this notice, the Department will instruct CBP to assess appropriate antidumping duties on the affected entries of the subject merchandise and liquidate such entries as indicated below.

Assessment of Duties

Pursuant to the terms of the Settlement Agreement, for any entries of the subject merchandise produced and exported by Mexinox that were entered or withdrawn from warehouse for consumption from July 1, 2004 through June 30, 2005, the Department will instruct CBP to liquidate the entries without regard to antidumping duties. Pursuant to the terms of the Settlement Agreement, for any entries of the subject merchandise produced and exported by Mexinox that were entered or withdrawn from warehouse for consumption from July 1, 2005 through June 30, 2009, the Department will instruct CBP to assess duties at the cash deposit rate in effect at the time of entry.

Dated: February 26, 2013.
Paul Piquado,
Assistant Secretary for Import Administration.

[FR Doc. 2013-05060 Filed 3-4-13; 8:45 am]

BILLING CODE 3510-DS-P